DEPARTMENT OF THE INTERIOR

Bureau of Land Management

[ID-400-1120-PH]

Notice of Public Meeting, Coeur d'Alene District Resource Advisory Council Meeting; ID

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Coeur d'Alene District Resource Advisory Council (RAC) will meet as indicated below.

DATES: May 17 and 18, 2005. The meeting will be held at the Sacajawea Inn located at 1824 Main Street, Lewiston, Idaho on May 17 from 10:30 a.m. to 5 p.m. and on May 18 from 8 a.m. to about 3 p.m. The public comment period will be from 8 a.m. to 9 a.m. on May 18, 2005.

FOR FURTHER INFORMATION CONTACT: Stephanie Snook, RAC Coordinator, BLM Coeur d'Alene District, 1808 N. Third Street, Coeur d'Alene, Idaho 83814 or telephone (208) 769-5004.

SUPPLEMENTARY INFORMATION: The 15-member Council advises the Secretary of the Interior, through the Bureau of Land Management, on a variety of planning and management issues associated with public land management in Idaho. The agenda for the May 17 and 18, 2005 meeting will include: Idaho Off-Highway Vehicle Outreach Project, Fish and Game Comprehensive Wildlife Conservation Strategy, upcoming review of Draft Alternatives for the Coeur d'Alene and Cottonwood Field Office Resource Management Plans, Lower Salmon River proposed mineral withdrawal, proposed fuel reduction projects, and reports on the Fee Demo Subgroup meeting, Idaho RAC Chair meeting and other meetings/events of interest.

All meetings are open to the public. The public may present written comments to the Council. Each formal Council meeting will also have time allocated for hearing public comments. Depending on the number of persons wishing to comment and time available, the time for individual oral comments may be limited. Individuals who plan to attend and need special assistance, such as sign language interpretation or other reasonable accommodations, should contact the BLM as provided above.

Dated: April 13, 2005.
Lewis M. Brown,
District Manager.

[FR Doc. 05-7783 Filed 4-15-05; 8:45 am]

BILLING CODE 4310-GG-P